DEPARTMENT OF COMMERCE

National Oceanic and Atmospheric Administration

[I.D. 051304B]

NOAA Recreational Fisheries Strategic Plan Public Meeting

AGENCY: National Marine Fisheries Service (NMFS), National Oceanic and Atmospheric Administration (NOAA), Commerce.

ACTION: Notice of public meetings.

SUMMARY: The National Marine Fisheries Service (NOAA Fisheries) is hosting a public meeting to present a draft of the NOAA Fisheries Strategic Plan for Recreational Fisheries 2005-2010. The primary goal of the meeting is to collect public input on the DRAFT plan. Additional meetings are planned for Texas, Alabama, and North Carolina. Specific dates times and locations of these meetings will be published in the Federal Register.

DATES: The meetings will be held on June 3 and June 26, 2004. See SUPPLEMENTARY INFORMATION for specific dates and times.

ADDRESSES: The meetings will be held in Peabody, MA and Honolulu, HI. See SUPPLEMENTARY INFORMATION for specific dates, times, addresses, and directions. Copies of the DRAFT Plan will be available at each meeting, or can be made available in advance of the meeting on the web at http://www.nmfs.noaa.gov/recfish/ or by contacting Mr. Michael Kelly, Division Chief, NOAA Fisheries Office Constituent Services, 301-713-2379.

FOR FURTHER INFORMATION CONTACT: Mr. Michael Kelly, Division Chief, Office of Constituent Services at (301) 713-2379.

SUPPLEMENTARY INFORMATION:

June 3, 2004, 6-9 p.m.

Holiday Inn Peabody, One Newbury Street (Rt 1), Peabody, MA.

1. Directions: The hotel is located directly on Route 1 on the northbound side. From 495/93/24/95 South. Take 128 Northbound. Take exit 44A onto 1 South.Turn around at first set of lights, staying to the left. Turn onto Rt. 1 North. Hotel is down on the right. From 95 North: Take 128 to Topfield/Boston exit. Follow Rte. 1 South to first set of lights. Turn around to Rte. 1 North. Hotel is down on the right. From Boston: Follow 93 to Tobin Bridge. Take Rte. North into Peabody.

June 26, 2004, 6-9 p.m. Ala Moana Hotel, 410 Atkinson Drive, Honolulu, HI 96814.

2. Directions: From the Honolulu International Airport: Travel east on Nimitz Highway for 7 miles toward Waikiki, turn left on Atkinson Drive.After the Ala Moana Center, Hotel is on the left immediately after the first light.

Special Accommodations

The meeting is physically accessible to people with disabilities. Requests for sign language interpretation or other auxiliary aids should be directed to Mr. Michael Kelly at 301 713-9504 at least 5 days prior to the meeting date.

Dated May 13, 2004.
Rebecca Lent,
Deputy Assistant Administrator for Regulatory Programs, National Marine Fisheries Service.

[FR Doc. 04-11351 Filed 5-18-04; 8:45 am]

BILLING CODE 3510-22-S